DEPARTMENT OF TRANSPORTATION

Federal Highway Administration

Environmental Impact Statement: Dane County, WI

AGENCY: Federal Highway Administration (FHWA), DOT.

ACTION: Notice of intent to prepare an environmental impact statement.

SUMMARY: To correct a previous county location error in the Federal Register, Vol. 71, No. 101, Thursday, May 25, 2006, Notices, the FHWA and WisDOT is re-issuing this notice to advise the public that an Environmental Impact Statement (EIS) will be prepared for proposed transportation improvements in the United States Highway (US) 51 corridor in the city of Madison, Dane County, Wisconsin generally between U.S. 12/18 (South Beltline Highway) and State Trunk Highway (STH) 19. The EIS is being prepared in conformance with 40 CFR 1500 and FHWA regulations.

FOR FURTHER INFORMATION CONTACT: Mr. Mark Chandler, Field Operations Engineer, Federal Highway Administration, 567 D'Onofrio Drive—Suite 100, Madison, Wisconsin, 53719-2814; Telephone: (608) 829-7514. You may also contact Eugene Johnson, Director, Bureau of Equity and Environmental Services, Wisconsin Department of Transportation, P.O. Box 7965, Madison, Wisconsin, 53707-7965: Telephone: (608) 267-9527.

SUPPLEMENTARY INFORMATION:

Electronic Access

An electronic copy of this document may be downloaded by using a computer, modem and suitable communications software from the Government Printing Offices' Electronic Bulletin Board Service at (202) 512-1661. Internet users may reach the Office of Federal Register's home page at: http://www.archives.gov/ and the Government Printing Offices' database at: http://www.gpoaccess.gov/nara/index.html.

Background

The FHWA, in cooperation with the Wisconsin Department of Transportation, will prepare an Environmental Impact Statement (EIS) on proposed improvements to address safety, operational and capacity concerns on an approximate 10-mile (16-kilometer) portion of U.S. 51 between Terminal Drive/Voges Road in the Village of McFarland and STH 19, in the Town of Burke in Dane County. These improvements are being considered to address existing and future transportation demand on U.S. 51 as identified in the 2003 Stoughton Road Needs Assessment Technical Report, safety concerns, and to identify land which may need to be preserved for future transportation improvements.

FHWA's decision to prepare a draft EIS is based on the initial environmental assessment that indicates the proposed action is likely to have significant impacts on the environment including wetlands. The draft EIS will evaluate the social, economic, and environmental impacts of the alternatives including no build, improvements within the existing highway corridor, and improvements on new location.

Information describing the proposed action and soliciting comments will be sent to appropriate Federal, State, and local agencies, private agencies and organizations, and citizens who have expressed or are known to have an interest in this proposal.

During needs assessment activities, coordination was conducted with state and federal review agencies (including an April 2005 Pre-Consultation/NEPA 404 Merger Scoping Meeting) and there has been extensive coordination with local officials. Ongoing coordination with local, state, and federal agencies and officials, including Native American Tribes, is planned throughout the environmental analysis process. Public information meetings were conducted from 2003 to 2006 and several ongoing focus group meetings and workshops have been held since 2002. A Policy Advisory Committee consisting of neighborhood & business representatives and elected officials has met quarterly since the study began in 2002. A public information meeting is planned while the draft EIS is being written and also following completion of the draft EIS, to address the impacts of each alternative. Public notice will be given of the time and place of the meeting and the draft EIS will be available for public and agency review and comment prior to the meeting. Coordination with state and federal review agencies will also continue throughout preparation of the draft EIS.

To ensure that the full range of issues related to this proposed action are addressed, and all substantive issues are identified, comments and suggestions are invited from all interested parties. Comments or questions concerning this proposed action and the draft EIS should be directed to FHWA or the Wisconsin Department of Transportation at the addresses provided under the heading FOR FURTHER INFORMATION CONTACT.

(Catalog of Federal Domestic Assistance Program Number 20.205, Highway Planning and Construction. The regulations implementing Executive Order 12372 regarding intergovernmental consultation on Federal programs and activities apply to this program).

Authority: 23 U.S.C. 315; 49 CFR 1.48.

Issued on: June 6, 2006.
Mark R. Chandler,
Field Operations Engineer, Federal Highway Administration, Madison, Wisconsin.

[FR Doc. E6-9064 Filed 6-9-06; 8:45 am]

BILLING CODE 4910-22-P